COMMISSION ON CIVIL RIGHTS

Notice of Public Meeting of the Nevada Advisory Committee; Cancellation

AGENCY: Commission on Civil Rights.

ACTION: Notice; cancellation of meeting date.

SUMMARY: The Commission on Civil Rights published a notice in the Federal Register concerning a meeting of the Nevada Advisory Committee. The meeting scheduled for Monday, December 12, 2022, at 3 p.m. (PT) is cancelled. The notice is in the Federal Register of Friday, October 14, 2022, in FR Doc. 2022-22374, in the second column of page 62360 and in the first column of page 62361.

FOR FURTHER INFORMATION CONTACT: Ana Victoria Fortes, (202) 681-0857, afortes@usccr.gov.

Dated: November 22, 2022.
David Mussatt,
Supervisory Chief, Regional Programs Unit.

[FR Doc. 2022-25937 Filed 11-28-22; 8:45 am]

BILLING CODE P